DEPARTMENT OF COMMERCE

Submission for OMB Review; Comment Request

The Department of Commerce will submit to the Office of Management and Budget (OMB) for clearance the following proposal for collection of information under the provisions of the Paperwork Reduction Act (44 U.S.C. Chapter 35).

Agency: National Telecommunications and Information Administration (NTIA).

Title: NTIA/FCC Web-Based Frequency Coordination System.

OMB Control Number: 0660-0018.

Agency Form Number: N/A.

Type of Request: Regular submission (extension of a currently approved information collection).

Burden Hours: 750.

Average Time per Response: 15 minutes.

Number of Respondents: 3,000.

Needs and Uses: The National Telecommunications and Information Administration (NTIA) hosts a Web-based system that collects specific identification information (e.g., company name, location and projected range of the operation, etc.) from applicants seeking to operate in existing and planned radio frequency (RF) bands that are shared on a co-primary basis by Federal and non-Federal users. The Web-based system provides a means for non-Federal applicants to rapidly determine the availability of RF spectrum in a specific location, or a need for detailed frequency coordination of a specific newly proposed assignment within the shared portions of the radio spectrum; and replaced the manual RF assignment process used by the Federal Communications Commission and NTIA. The system helps expedite the coordination process for non-federal applicants while assuring protection of government data relating to national security and replaced the .

Affected Public: Business or other for-profit organizations; state or local government.

Respondent's Obligation: Voluntary.

OMB Desk Officer: Nicholas A. Fraser, (202) 395-5887.

Copies of the above information collection proposal can be obtained by calling or writing Diana Hynek, Departmental Paperwork Clearance Officer, (202) 482-0266, Department of Commerce, Room 6616, 14th and Constitution Avenue, NW., Washington, DC 20230 (or via the Internet at dHynek@doc.gov).

Written comments and recommendations for the proposed information collection should be sent within 30 days of publication of this notice to Nicholas Fraser, OMB Desk Officer, Fax number (202) 395-5167 or Nicholas_A._Fraser@omb.eop.gov.

Dated: October 14, 2010.
Gwellnar Banks,
Management Analyst, Office of the Chief Information Officer.

[FR Doc. 2010-26248 Filed 10-18-10; 8:45 am]

BILLING CODE 3510-60-P